DEPARTMENT OF HEALTH AND HUMAN SERVICES

Health Resources and Services Administration

Meeting of the Advisory Committee on Organ Transplantation

AGENCY: Health Resources and Services Administration (HRSA), Department of Health and Human Services (HHS).

ACTION: Notice.

SUMMARY: In accordance with the Federal Advisory Committee Act (FACA), this notice announces that the Secretary's Advisory Committee on Organ Transplantation (ACOT) has scheduled a public meeting. Information about ACOT and the agenda for this meeting can be found on the ACOT website at https://www.organdonor.gov/about-dot/acot.html.

DATES: April 16, 2019, 10:00 a.m.-4:00 p.m. Eastern Time.

ADDRESSES: This meeting will be held by webinar. Members of the public can access the webinar link and conference call-in number at https://www.organdonor.gov/about-dot/acot.html.

FOR FURTHER INFORMATION CONTACT: Robert Walsh, Designated Federal Official, (DFO), at Healthcare Systems Bureau, Division of Transplantation, HRSA, 5600 Fishers Lane, 8W60, Rockville, Maryland 20857; 301-443-6839; or RWalsh@hrsa.gov.

SUPPLEMENTARY INFORMATION: ACOT advises the Secretary of HHS, through the HRSA Administrator, on all aspects of organ donation, procurement, allocation, and transplantation, and on such other matters that the Secretary determines; advises the Secretary on federal efforts to maximize the number of deceased donor organs made available for transplantation and to support the safety of living organ donation; at the request of the Secretary, reviews significant proposed Organ Procurement and Transplantation Network (OPTN) policies submitted for the Secretary's approval to recommend whether they should be made enforceable; and provides expert input on the latest advances in the science of transplantation.

During the April 16, 2019, meeting, ACOT will receive updates on recent activity of OPTN and discuss efforts to increase organ donation and transplantation. Agenda items are subject to change as priorities dictate. Refer to the ACOT website for any updated information concerning the meeting.

Members of the public will have the opportunity to provide comments. Public participants may submit written statements in advance of the scheduled meeting. Oral comments will be honored in the order they are requested and may be limited as time allows. Requests to submit a written statement or make oral comments to ACOT should be sent to Robert Walsh, DFO, using the contact information above at least three business days before the meeting.

Individuals who plan to participate in the webinar and need special assistance or other reasonable accommodations should notify Robert Walsh at the address and phone number listed above at least 10 business days before the meeting.

Amy P. McNulty,
Acting Director, Division of the Executive Secretariat.

[FR Doc. 2019-03185 Filed 2-22-19; 8:45 am]

BILLING CODE 4165-15-P